COMMISSION ON CIVIL RIGHTS

Agenda and Notice of Public Meeting of the District of Columbia Advisory Committee

AGENCY: Commission on Civil Rights.

ACTION: Announcement of monthly planning meeting.

SUMMARY: Notice is hereby given, pursuant to the provisions of the rules and regulations of the U.S. Commission on Civil Rights (Commission), and the Federal Advisory Committee Act (FACA), that a planning meeting of the District of Columbia Advisory Committee to the Commission will convene at 11:30 a.m. (EST) Tuesday, January 9, 2018 at the offices of the U.S. Commission on Civil Rights, 1331 Pennsylvania Avenue NW, Suite 1150, Washington, DC 20425. The purpose of the meeting is to discuss and vote on the project proposal on the mental health court in DC that will be submitted to the staff director for approval.

DATES: January 9, 2018 at 11:30 a.m. (EST).

ADDRESSES: 1331 Pennsylvania Avenue NW, Suite 1150, Washington, DC 20425.

FOR FURTHER INFORMATION CONTACT: Ivy Davis, DFO, at ero@usccr.gov or 202-376-7533.

SUPPLEMENTARY INFORMATION: Persons with accessibility needs should contact the Eastern Regional Office no later than 10 working days before the scheduled meeting by sending an email to the following email address at ero@usccr.gov.

Members of the public are entitled to attend or submit written comments. The comments must be received in the regional office by February 9, 2018. Comments may be mailed to the Eastern Regional Office, U.S. Commission on Civil Rights, 1331 Pennsylvania Avenue, Suite 1150, Washington, DC 20425 or emailed to Evelyn Bohor at ero@usccr.gov. Persons who desire additional information may contact the Eastern Regional Office at 202-376-7533.

Records and documents discussed during the meeting will be available for public viewing as they become available at http://facadatabase.gov/committee/meetings.aspx?cid=241; click the “Meeting Details” and “Documents” links. Records generated from this meeting may also be inspected and reproduced at the Eastern Regional Office, as they become available, both before and after the meeting. Persons interested in the work of this advisory committee are advised to go to the Commission's website, www.usccr.gov, or to contact the Eastern Regional Office at the above phone numbers, email or street address.

Agenda: Tuesday, January 9, 2018

I. Welcome and Introductions

—Rollcall

II. Planning Meeting

—Discuss/Review Project Proposal

—Identify Committee Members for Planning Workgroup

III. Other Business

IV. Open Comment

V. Adjournment

Dated: December 11, 2017.
David Mussatt,
Supervisory Chief, Regional Programs Unit.

[FR Doc. 2017-26985 Filed 12-14-17; 8:45 am]

BILLING CODE 6335-01-P